FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 940. Interested parties may submit comments on an agreement to the Secretary, Federal Maritime Commission, Washington, DC 20573, within 10 days of the date this notice appears in the Federal Register.

Agreement No.: 011290-026.

Title: International Vessel Operators Hazardous Material Association Agreement.

Parties:

APL Co. PTE Ltd.

Atlantic Container Line BV.

Australia-New Zealand Direct Line.

Crowley Maritime Corporation.

Delmas AAEL.

Evergreen Marine Corporation (Taiwan), Ltd.

Farrell Lines, Inc.

Hamburg-Sudamerikanische

Dampfshifffahrtsgesellschaft Eggert & Amsinck (Columbus Line).

Hapag-Lloyd Container Linie GmbH.

Hoegh Lines.

Hyundai Merchant Marine Co., Ltd.

Independent Container Line, Ltd.

Italia di Navigazione, S.p.A.

Kawasaki Kisen Kaisha Ltd.

Lykes Lines Limited, LLC.

Mediterranean Shipping Co. S.A.

Mitsui O.S.K. Lines, Ltd.

A.P. Moller-Maersk Sealand.

National Shipping Co. of Saudi Arabia.

Nippon Yusen Kaisha Line.

Orient Overseas Container Line, Inc.

P&O Nedlloyd B.V.

P&O Nedlloyd Limited.

Senator Lines GmbH.

Tecmarine Lines, Inc.

Wallenius Wilhelmsen Lines AS.

Zim Israel Navigation Company, Ltd.

Synopsis: The parties are amending their agreement to change the agreement name to that indicated above; to change the name of two member lines to reflect recent changes therein; and to provide for non-voting, associate membership in the agreement by any entity not qualified for membership as a vessel-operating common carrier.

Agreement No.: 011552-004.

Title: Colombia Express Joint Service Agreement.

Parties:

Associated Transport Line, L.L.C.

Smith & Johnson Carriers Inc.

Colombia Express, L.L.C.

Synopsis: The proposed modification expands the geographic scope of the agreement to include both Trinidad and Venezuela.

Agreement No.: 011715-001.

Title: IMC/Colombia Express Space Charter and Sailing Agreement.

Parties:

Industrial Maritime Carriers (U.S.A.) Inc.

Colombia Express, L.L.C.

Synopsis: The proposed modification expands the geographic scope of the agreement to include both Trinidad and Venezuela.

Agreement No.: 011718.

Title: Maersk Sealand/MOL Slot Transfer Agreement.

Parties:

A.P. Moller-Maersk Sealand.

Mitsui O.S.K. Lines, Ltd.

Synopsis: Under the agreement, Maersk Sealand will make available to Mitsui an average of 250 TEU slots eastbound and westbound on a weekly basis in the trade between U.S. East and Gulf ports and ports in Northern Europe. The parties request expedited review.

Agreement No.: 201105.

Title: Terminal Use Agreement between the Port of Oakland and China Shipping Container Lines.

Parties:

City of Oakland.

China Shipping Container Lines (Shanghai).

Synopsis: The agreement provides for the non-exclusive right to use areas within the Ben E. Nutter Container Terminal. The agreement runs through May 31, 2001.

By Order of the Federal Maritime Commission.
Dated: July 28, 2000.
Bryant L. VanBrakle,
Secretary.

[FR Doc. 00-19581 Filed 8-1-00; 8:45 am]

BILLING CODE 6730-01-P